ENVIRONMENTAL PROTECTION AGENCY

[EPA-HQ-OPP-2018-0014; FRL-9992-29]

Product Cancellation Order for Certain Pesticide Registrations and Amendments To Terminate Uses; Correction

AGENCY: Environmental Protection Agency (EPA).

ACTION: Notice, correction.

SUMMARY: EPA issued a notice in the Federal Register on March 19, 2019, concerning the cancellation of certain pesticide registrations and amendments to terminate uses. This document is being issued to correct Table 1 of the cancellation notice by removing two entries which were revised to extend the phase out for cancellation.

FOR FURTHER INFORMATION CONTACT: Christopher Green, Information Technology and Resources Management Division (7502P), Office of Pesticide Programs, Environmental Protection Agency, 1200 Pennsylvania Ave. NW, Washington, DC 20460-0001; telephone number: (703) 341-0367; email address: Green.Christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

This notice is being issued to correct Table 1 of the cancellation notice that published in the Federal Register on March 19, 2019 (84 FR 10067) (FRL-9989-85). This correction removes two entries in Table 1 that were revised to extend the phase out date for cancellation. As such, FR Doc. 2019-05157 that published in the Federal Register on March 19, 2019 (84 FR 10067) (FRL-9989-85) is corrected as follows:

1. On page 10068, in Table 1, remove the complete entries for: “264-736 and 264-740”.

2. Insert the following table below Table 1.

Table 1A—Product Cancellations
Registration No. | Company No. | Product name | Active ingredients
264-736 | 264 | Bayleton Technical Fungicide | Triadimefon.
264-740 | 264 | Bayleton 50% Concentrate | Triadimefon.

The registrants of the two registrations in Table 1A, have requested the cancellations to be effective on December 31, 2020.

Authority: 7 U.S.C. 136 et seq.

Dated: May 16, 2019.
Delores Barber,
Director, Information Technology and Resources Management Division, Office of Pesticide Programs.

[FR Doc. 2019-11129 Filed 5-28-19; 8:45 am]

BILLING CODE 6560-50-P